FEDERAL TRADE COMMISSION

16 CFR Part 423

Exemption Granted Concerning Trade Regulation Rule on Care Labeling of Textile Wearing Apparel and Certain Piece Goods

AGENCY: Federal Trade Commission.

ACTION: Request for examption granted.

SUMMARY: In a Federal Register notice dated April 14, 2000, the Federal Trade Commission (the “Commission”) requested public comment on a proposed exemption to its Trade Regulation Rule on Care labeling of Textile Wearing Apparel and Certain Piece Goods (“the Care Labeling Rule” or “the Rule”). The Esprit de Corp company petitioned the Commission for the proposed exemption, which would permit it to distribute three specific styles of apron camisoles without attaching permanent care labels to the garments, as otherwise required by the Care Labeling Rule. Only one comment, which supports the approval of the proposed exemption, was received.¹ On the basis of the petition, the sample garments submitted by the petitioner, and the comment received, the Commission believes that a permanent label on the garments would impair the appearance and usefulness of the items. In granting the petition, the Commission notes that care instructions for the camisoles still must be given on a hang tag, or on the package, or in some other conspicuous place, so that consumers will be able to see the care information before buying the product.

¹ Comment dated May 4, 2000, from John B. Pellegrini, of the law firm of Ross & Hardies, on behalf of the United States Association of Importers of Textiles and Apparel (“USA-ITA”).

DATES: The exemption is effective August 7, 2000.

FOR FURTHER INFORMATION CONTACT: Constance M. Vecellio, Attorney, Federal Trade Commission, Washington, DC 20580, (202) 326-2966.

SUPPLEMENTARY INFORMATION: The Rule was promulgated by the Commission on December 16, 1971, 36 FR 23883 (1971), and amended on May 20, 1983, 48 FR 22733 (1983). The Rule makes it an unfair or deceptive act or practice for manufacturers and importers of textile wearing apparel and certain piece goods to sell these items without attaching care labels stating “what regular care is needed for the ordinary use of the product.” (16 CFR 423.6(a) and (b)) The Rule defines a care label as a “permanent label or tag * * * that is attached or affixed in such a manner that it will not become separated from the product * * *.” (16 CFR 423.1(a))

Section 423.8(b) of the Rule states that manufacturers or importers can ask for an exemption from the requirement of attaching a permanent care label for any textile wearing apparel product or product line if the label would harm the appearance or usefulness of the product. Section 423.8(c) of the Rule states that if an item is exempt from care labeling under subparagraph (b) of section 423.8, the consumers still must be given the required care information for the product, but the care information can be provided on a hang tag, on the package, or in some other conspicuous place, so that consumers will be able to see the care information before buying the product.

List of Subjects in 16 CFR Part 423

Clothing, Labeling, Textiles, Trade practices.

Authority: 15 U.S.C. 41-58.

By direction of the Commission.
Donald S. Clark,
Secretary.

[FR Doc. 00-19899 Filed 8-4-00; 8:45 am]

BILLING CODE 6750-01-M